DEPARTMENT OF ENERGY

Federal Energy Regulatory Commission

[Docket No. RP05-164-000]

Equitrans, L.P; Errata

March 4, 2005.

On February 28, 2005, the Commission issued an Order Accepting And Suspending Tariff Sheets Subject To Refund And Establishing Hearing And Technical Conference Procedures, in the above-docketed proceeding. 110 FERC ¶ 61,194 (2005).

The effective date of July 1, 2005, mentioned in paragraphs number 2 and 31, Ordering Paragraph (A), and the title of the Appendix of the Commission's order is in error and is hereby revised. The correct effective date is August 1, 2005.

Magalie R. Salas,
Secretary.

[FR Doc. E5-1033 Filed 3-11-05; 8:45 am]

BILLING CODE 6717-01-P